DEPARTMENT OF HEALTH AND HUMAN SERVICES

Centers for Disease Control and Prevention

[Program Announcement 01128]

Strengthening Emergency Medical Preparedness in Tanzania; Notice of Availability of Funds

A. Purpose

The Centers for Disease Control and Prevention (CDC) announces the availability of fiscal year (FY) 2001 funds for a cooperative agreement program for “Strengthening Emergency Medical Preparedness in Tanzania.” This program addresses the “Healthy People 2010” focus areas: Public Health Infrastructure; Access to Quality Health Services; and Educational and Community-Based Programs.

The purpose of the program is to initiate a sustainable curriculum for post-graduate emergency medical training in Tanzania. Tanzanian care-providers and instructors will be trained involving the fundamentals of essential emergency medical care and equipment. This program is being performed specifically in Tanzania according to US Congressional mandate for Department of State, US Agency for International Development (USAID) implementation in response to the 1998 bombing of the US embassy in Tanzania.

B. Eligible Applicants

Applications may be submitted by public and private nonprofit organizations and by governments and their agencies; that is, universities, colleges, research institutions, hospitals, other public and private nonprofit and for-profit organizations, State and local governments or their bona fide agents, federally recognized Indian tribal governments, Indian tribes, or Indian tribal organizations, and small, minority, or women-owned businesses.

To be an eligible applicant you must provide evidence of the following:

1. Copies of certificates from the American Board of Emergency Medicine documenting current specialty board certification for the practice of emergency medicine for all educational staff.

2. Copies of letters of reference from prior implementing partners (including at minimum the funding institution contract officer and a key implementing representative from the host nation) documenting successful project completion in the provision of post-graduate emergency medical training among African nations.

3. A copy of documentation verifying current accreditation of the applicant institution by the Accreditation Council of Graduate Medical Education for provision of post-graduate medical training in the specialty of emergency medicine.

This information should be placed after the face page of the application. Any application that does not provide the above information will be determined non-responsive and returned without review.

Note: Title 2 of the United States Code, Chapter 26, Section 1611 states that an organization described in section 501(c)(4) of the Internal Revenue Code of 1986 that engages in lobbying activities is not eligible to receive Federal funds constituting an award, grant, cooperative agreement, contract, loan, or any other form.

C. Availability of Funds

Approximately $150,000 is available in FY 2001 to fund one award. It is expected that the award will begin on or about September 30, 2001, and will be made for a 12-month budget period within a project period of up to 2 years. Funding estimates may change.

Continuation awards within an approved project period will be made on the basis of satisfactory progress as evidenced by required reports and the availability of funds.

D. Program Requirements

In conducting activities to achieve the purpose of this program, the recipient will be responsible for the activities under 1. (Recipient Activities), and CDC will be responsible for the activities listed under 2. (CDC Activities).

1. Recipient Activities

a. Develop two curriculum components (one for training physicians and one for nurses) regarding emergency and disaster medicine in Tanzania.

b. Train approximately 20-30 medicine and nursing educators in conducting the courses. These educators should be from, but are not limited to: The Muhimbili University College of Health Sciences (MUCHS) or other sites in Dar es Salaam and other Tanzanian health institutions (located in Moshi, Mbeya, Mwanza, Kigoma, Dodoma, Morogoro and Kibaha).

c. Facilitate and evaluate these 20-30 newly-trained educators in conducting this course for students at MUCHS or other sites.

d. Develop and conduct in-service training for medical and nursing staff at the health institutions using the procured materials in an emergency medical and/or mass casualty situation.

e. Develop a project operational plan. This plan should at a minimum include: curriculum format and content, descriptions of all media to be used, time-lines for all planning and educational meetings, curriculum vitae of all personnel, expected outcomes and indicators of completion.

2. CDC Activities

a. Provide consultation and assistance in planning and implementing program activities.

b. Provide science-based collaboration and technical assistance in developing and implementing evaluation strategies for the program.

E. Application Content

Use the information in the Program Requirements, Other Requirements, and Evaluation Criteria sections to develop the application content. Your application will be evaluated on the criteria listed, so it is important to follow them in laying out your program plan. The narrative should be no more than twenty double-spaced pages, printed on one side, with one inch margins, and unreduced font. The narrative must consist of, at a minimum, a Plan, Objectives, Methods, Evaluation and Budget. Provide a detailed budget and justification based on the funds available.

F. Submission and Deadline

Submit the original and two copies of PHS 5161-1 (OMB Number 0920-0428). Forms are available at the following Internet address: www.cdc.gov or in the application kit. On or before July 27, 2001, submit the application to the Grants Management Specialist identified in the “Where to Obtain Additional Information” section of this announcement.

Deadline: Applications shall be considered as meeting the deadline if they are either:

1. Received on or before the deadline date; or

2. Sent on or before the deadline date and received in time for submission to the independent review group. (Applicants must request a legibly dated U.S. Postal Service postmark or obtain a legibly dated receipt from a commercial carrier or U.S. Postal Service. Private metered postmarks shall not be acceptable as proof of timely mailing.)

Late Applications: Applications which do not meet the criteria in 1. or 2. above will be returned to the applicant.

G. Evaluation Criteria

The application will be evaluated against the following criteria by an independent review group appointed by CDC.

1. Understanding the Project (10 points)

a. Demonstrated clarity, feasibility and practicality of the proposed plan to accomplish this project.

b. Demonstrated recognition of the potential difficulties in performance and appropriateness and soundness of proposed solutions.

2. Methodology and Approach (20 points)

a. Provide evidence of demonstrated expertise in methodology for development and successful implementation of “train-the-trainers” educational programming.

b. Provide evidence of demonstrated successful experience in developing nations using an educational approach that utilizes “hands-on” clinical teaching as well as lecture-based, didactic instruction.

3. Staff Experience and Capability (20 points)

a. Provide evidence of a demonstrated adequate depth of staffing to include contributions from at least four different board-certified emergency physicians to be assigned for implementation of this project.

b. Provide evidence of demonstrated technical expertise and professional experience of staff in the clinical practice of emergency medicine under austere conditions of an African nation.

4. Scientific or Technical Approach (30 points)

a. Provide evidence of demonstrated scientific expertise involving programs for the promotion of public health in Africa.

b. Provide evidence of demonstrated technical expertise in developing medical education to include training methods that are culturally and technological appropriate to sub Saharan Africa.

c. Provide evidence of demonstrated technical expertise in developing medical education to include concepts of disaster medicine such as triage, incident management systems, communication and casualty care.

5. Cultural Knowledge Requirements (20 points)

a. Provide evidence of demonstrated successful experience as a consultant in sub Saharan African countries.

b. Provide evidence of an existing relationship with the Ministry of Health of Tanzania or with the Ministry of Health of another sub Saharan African nation.

6. Budget Justification (not scored)

The extent to which the budget is clearly explained, adequately justified, and is reasonable and consistent with the stated objectives and planned activities.

H. Other Requirements

Technical Reporting Requirements

Provide CDC with original plus two copies of:

1. Progress reports semi-annually.

2. Financial status report, no more than 90 days after the end of the budget period.

3. Final financial and performance reports, no more than 90 days after the end of the project period.

Send all reports to the Grants Management Specialist identified in the “Where to Obtain Additional Information” section of this announcement.

The following additional requirements are applicable to this program. For a complete description of each, see Attachment I in the application kit.

AR-7 Executive Order 12372 Review

AR-11 Healthy People 2010

AR-12 Lobbying Restrictions

AR-14 Accounting System Requirements

AR-15 Proof of Non-Profit Status

I. Authority and Catalog of Federal Domestic Assistance Number

This program is authorized under sections 301 and 307 of the Public Health Service Act, [42 U.S.C. sections 241 and 242], as amended. The Catalog of Federal Domestic Assistance number is 93.283.

J. Where To Obtain Additional Information

This and other CDC announcements can be found on the CDC home page Internet address—http://www.cdc.gov Click on “Funding” then “Grants and Cooperative Agreements.”

To receive additional written information and to request an application kit, call 1-888-GRANTS4 (1-888-472-6874). You will be asked to leave your name and address and will be instructed to identify the Program Announcement number of interest.

If you have questions after reviewing the contents of all the documents, business management technical assistance may be obtained from:

Michael Smiley, Grants Management Specialist, Grants Management Branch, Procurement and Grants Office, Centers for Disease Control and Prevention, 2920 Brandywine Road, Room 3000, Atlanta, GA 30341-4146, Telephone number: (770) 488-2694, Email address: znr6@cdc.gov

For program technical assistance, contact: Mark Keim, M.D., Emergency Preparedness and Response Branch, National Center for Environmental Health, Centers for Disease Control and Prevention, 4770 Buford Highway, NE (F-38), Atlanta, GA 30341-3724, Telephone number: 770-488-4597, Email address: mjk9@cdc.gov

Dated: May 22, 2001.
Henry S. Cassell III,
Acting Director, Procurement and Grants Office, Centers for Disease Control and Prevention (CDC).

[FR Doc. 01-13376 Filed 5-25-01; 8:45 am]

BILLING CODE 4163-18-P